DEPARTMENT OF HEALTH AND HUMAN SERVICES

National Institutes of Health

Center for Scientific Review; Amended Notice of Meeting

Notice is hereby given of a change in the meeting of the Center for Scientific Review Special Emphasis Panel, June 15, 2000, 8:30 a.m. to June 16, 2000, 5 p.m., Bethesda Holiday Inn, 8120 Wisconsin Avenue, Bethesda, MD 20814 which was published in the Federal Register on June 7, 2000, 65 FR 36154-36156.

The starting time of the meeting has been changed to 8 a.m. The meeting dates and location remain the same. The meeting is closed to the public.

Dated: June 14, 2000.
LaVerne Y. Stringfield,
Director, Office of Federal Advisory Committee Policy.

[FR Doc. 00-15744 Filed 6-21-00; 8:45 am]

BILLING CODE 4140-01-M